DEPARTMENT OF THE INTERIOR

Fish and Wildlife Service

50 CFR Part 86

RIN 1018-AF38

Boating Infrastructure Grant Program

AGENCY: Fish and Wildlife Service, Interior.

ACTION: Final rule.

SUMMARY: This regulation provides for the uniform administration of the national Boating Infrastructure Grant Program and survey authorized by Section 7404 of the Sportfishing and Boating Safety Act of 1998. Through this program, the U.S. Fish and Wildlife Service will provide funds to States to install or upgrade tie-up facilities for transient recreational boats 26 feet or more in length.

DATES: This rule is effective on February 20, 2001.

ADDRESSES: The administrative record for this rule, including copies of comments received, is available for viewing Monday through Friday, 8 am to 4 pm, in the Division of Federal Aid, 4401 North Fairfax Drive, Room 140, Arlington, VA 22203.

FOR FURTHER INFORMATION CONTACT: Steve Farrell, Project Officer, U.S. Fish and Wildlife Service, Division of Federal Aid, 4401 North Fairfax Drive, Suite 140, Arlington, Virginia 22203; telephone (703) 358-2156; fax (703) 358-1705; email <steve_farrell@fws.gov>.

SUPPLEMENTARY INFORMATION:

Background

Economic Status of Boating in the United States

Historically, coastal and inland waterways were the first highways along our shores and into the interior of the continent. Americans used boats almost exclusively for transportation of people and goods. Today we use more than 12 million recreational boats to cruise and fish. Recreational boating is now a significant economic activity in many areas of the country and in many respects exceeds that of waterborne commerce. Given the present demographic forces, we expect this rule to have a positive economic impact by adding facilities to accommodate larger cruising boats.

Purpose of the Boating Infrastructure Grant Program

Recreational boats 26 feet or more in length, called “nontrailerable” boats, represent about 4 percent, or more than 600,000, of the recreational boats in the United States. Although we have approximately 12,000 marinas in the United States, Congress recognized that insufficient tie-up facilities exist for transient, nontrailerable boats for reasonable and convenient access from our navigable waters. These boaters are unable to enjoy many recreational, cultural, historic, scenic, and natural resources of the United States. We also have an insufficient quantity of marinas or commercial tie-up facilities along extended stretches of our coastlines and rivers that benefit transient, nontrailerable boats. In many parts of the country, the number of places to tie-up, moor, or anchor a cruising boat, especially during a storm, is limited. Basic features, such as tie-ups, fuel, utilities, and restrooms, are often nonexistent. As a result, Congress passed the Sport Fishing and Boating Safety Act of 1998 (16 U.S.C. 777g). Under the Act, the U.S. Fish and Wildlife Service conducts the Boating Infrastructure Grant (BIG) Program. The BIG Program will provide $32 million to States and Territories over 4 years to construct, renovate, or maintain tie-up facilities for recreational boats 26 feet or more in length.

This program will:

(a) Create dockage for transient recreational boats 26 feet or more in length for recreational opportunities and safe harbors;

(b) Provide navigational aids for boaters to use these facilities;

(c) Enhance access to recreational, historic, cultural, natural, and scenic resources;

(d) Strengthen local ties to the boating community and its economic benefits;

(e) Promote public/private partnerships and entrepreneurial opportunities;

(f) Provide continuity of public access to the shore; and

(g) Promote awareness of transient boating opportunities.

The Act also directs us to:

(a) Develop a national framework or methodology to conduct a boat access needs assessment or survey to determine the adequacy of facilities for recreational boats of all sizes;

(b) Encourage States to complete the boat access needs survey; and

(c) Complete a comprehensive national assessment of boat access needs and facilities (the assessment will be a compilation of information from the States' surveys into a national report of boat access needs).

Analysis of Public Comments and Changes Made to the Proposed Rule

On January 20, 2000, the U.S. Fish and Wildlife Service (Service) published a proposed rule in the Federal Register (65 FR 3331) and requested comments on the proposed rule and information collection for the national BIG Program. The Service received 13 written responses by the close of the comment period on March 20, 2000. The responses came from nongovernmental organizations, a private individual, and Federal and State employees and agencies.

We received a total of 170 comments from the 13 written responses covering the following areas: survey (74), criteria for selection (11), State plans (8), clarifications (3), suspected typographical errors (3), and comments of a general nature (71). We may not reflect these actual numbers in the list below due to combining similar comments or questions. We have addressed all of the comments in this section of the preamble and made any necessary changes to the proposed rule. As a result, some sections of the proposed rule were combined or eliminated. Comments pertaining to the proposed information collection are addressed under Substantive Comments, Issues 1 through 9.

The following is clarification or analysis and reporting of any substantial changes to the rule that the Service made in response to these comments. The Service also corrected other minor errors in the proposed rule, as described below.

Minor Changes

In § 86.12(n), in response to a comment asking us to define “transient,” we are adding the following definition, “Passing through or by a place, staying 10 days or less.”

In § 86.13(d), we changed “seasonal” to “transient” to avoid confusing wording.

In § 86.13(f), in response to a suggestion, we added “docks” after the word “floating” to clarify.

In § 86.13, in response to suggestions, we added at paragraphs (o), (p), and (q), “dockside” to clarify where utilities are placed.

In § 86.13, in response to a suggestion, we added “(r) Debris deflection booms.”

In § 86.13, in response to suggestions, we added “(s) Marine fueling stations.”

In § 86.20(a)(1), in response to a suggestion, we added a second sentence as follows: “You must design new construction and renovations to last at least 20 years.”

In § 86.20(e)(1), in response to a suggestion, we deleted from subparagraph (vii) to end, as the activities listed in the proposed rule are not appropriate preconstruction activities.

In § 86.20, in response to a suggestion, we added a new item, “(f) Produce information and education materials such as charts, cruising guides, and brochures.”

In § 86.21(d), in response to a suggestion, we changed the sentence to read: “Construct or renovate principal structures not expected to last at least 20 years.”

In § 86.44(b), in response to a suggestion, we replaced “* * * we will” with “* * * The State must * * *”

In § 86.54(f)(1)(i) in the proposed rule (now § 86.53(d)(1)(i)), in response to several comments, we changed the section to clarify that no State Tier One proposal may exceed $100,000 in any given fiscal year.

Substantive Changes

Issue 1. Questions and comments on the survey included issues of respondent burden (how long to complete a section), unclear questions, issues of confidentiality, site-specific questions, and the value of answers to specific questions in determining national need.

Response: In response to all of the comments received on the technical aspects of the proposed survey, we completed significant revisions to the survey instrument. We considered all comments and redesigned the survey, improved guidance and questions, and decreased the time burden for completion. The revised survey began its approval process when it was published in the Federal Register (65 FR 63606) on October 24, 2000 for a 60-day public comment period. The survey will be ready for use during the FY 2001 grant cycle, and the Service will notify eligible applicants upon receiving OMB approval.

Issue 2. How can States pay for the survey?

Response: States can pay the costs for conducting the survey using Federal Aid in Sport Fish Restoration program funds, and credit expenditures toward the 15% minimum used for motor boat access (16 U.S.C. 777g (g)(4)).

Issue 3. Is the survey required?

Response: The Service does not require States to conduct surveys to receive funding under the national BIG program. However, the Service must produce a comprehensive national assessment of recreational boat access needs and facilities. The States, by conducting and forwarding their survey results to the Service, are ensuring that their needs are known (16 U.S.C. 777g (g)(2)). States may use existing, recent survey results, approved by the appropriate Service Regional Office, to determine boating infrastructure needs (§ 86.113).

Issue 4. States completing a survey should receive ranking points.

Response: No “points” are assigned in the criteria for completing a survey; the only available points are outlined in § 86.60. States must use the survey results to develop a State plan for boating infrastructure. The plan (any plan certified by the Service Regional Office) is then eligible for 15 ranking points.

Issue 5. Can States add questions to the survey?

Response: States cannot add any questions to the survey. If OMB approves the final survey as written, we will reimburse States only for administering it as approved.

Issue 6. Typographical errors occur in the survey tables.

Response: We fixed typographical errors in both tables describing the type of participant in survey parts.

Issue 7. States should submit survey results electronically.

Response: The Service wants the results transmitted to the Service Regional Offices in a common electronic format, such as Microsoft Word, Word Perfect, Excel or Quattro Pro. We added a requirement regarding electronic transmission of results to § 86.111.

Issue 8. Clarify “boat service providers” as the term relates to public access.

Response: We changed § 86.102(b)(2)(i) and (ii) to include a phrase that specifies boat service providers “who allow public access.”

Issue 9. What are the survey response rate requirements?

Response: We changed § 86.115 to read “plus or minus 10 percent.” We also replaced the language that suggests a 70 percent response rate with language that says the State is responsible for selecting a statistically valid sample size.

Issue 10. In § 86.60, the points do not add up to 100, or no points are allowed for completing surveys.

Response: This section needed several minor editorial changes to make it clear and concise. Among these, we changed the point total to 105. The issue regarding awarding points for completing surveys is addressed in Issue 4.

Issue 11. According to § 86.54, why are proposals that are awarded less than 60 points when held to the criteria in § 86.60 automatically moved to Tier Two?

Response: We removed this “60 point” break when we revised the Tier One/Two break.

Issue 12. By awarding 15 points for a State plan, the Service is making State plans mandatory, penalizing all nonplan proposals.

Response: State plans are desirable under the Act (16 U.S.C. 777g (g)). They help set priorities and describe how a State will fulfill recreational boaters' needs. We can also use plans to help set national priorities in the comprehensive national assessment of recreational boat access needs and facilities described in the Act. The plan nonetheless is optional. The Act states, “A State may develop a plan for,” and in the proposed rule, § 86.131 states “Plans are voluntary.” However, the Service will award 15 criteria points to any acceptable plan, already existing and current, or a newly developed plan based on the OMB-approved survey or other recent approved survey results. The reason for the 15 criteria points is that projects coming from an accepted plan will establish priorities based on a formal needs assessment.

Issue 13. Add a statement to identify priorities in the State plan in § 86.60(b)(1).

Response: We added to § 86.60(b)(1), after the word “following” “priorities identified in” your State's program plan. We also agreed with the second thought presented in this comment and changed “construct and renovate” to “construct, renovate, and maintain.”

Issue 14. Change the point values assigned to certain criteria.

Response: We are not making a change to the final rule as a result of this comment. We believe that we did a thorough job of stakeholder involvement when we assigned these point values.

Issue 15. A possible conflict exists in § 86.60(b)(4) about match funds.

Response: We have changed § 86.60(b)(4) to read “Include private, local, or other State funds in addition to the non-Federal match described in § 86.42.”

Issue 16. Because of typographical errors in § 86.60(b)(4)(i), the percentage range was left out.

Response: In § 86.60(b)(4), we changed paragraph (i) to read “Twenty-six percent to thirty-five percent—5 points,” paragraph (ii) to remove the word “above” at the end, and paragraph (iii) to insert the word “and” so it reads “Fifty percent and above—15 points.”

Issue 17. Add the word “proposed” before “tie-up” to the second sentence in § 86.60(b)(5), and delete the word “access” from the same sentence.

Response: We do not believe this suggestion adds to the clarity of the sentence. We are making no changes to the proposed rule as a result of this comment.

Issue 18. In § 86.60(b)(6), change the wording of the sentence to restrict the sites to those near population centers and raise the value of the points assigned.

Response: We believe this change would unnecessarily restrict State proposals. We believe the sentence is clear and the points are appropriate. The sentence remains unchanged.

Issue 19. In § 86.60(b)(7), substitute “enhanced opportunities” for “access.”

Response: We are not changing this paragraph as a result of this comment because we believe the sentence is clear as written.

Issue 20. In § 86.60(b)(8), add “adjacent” before the word “community,” and add “as the result of construction, renovation, or increased use,” at the end of the first sentence.

Response: We believe this change would unnecessarily restrict the program criteria. The proposed sentence stands unchanged.

Issue 21. Allow Tier One dollars to finance State plans because not to do so creates an unfunded Federal mandate.

Response: The Act states that “* * * a State may develop and submit to the Secretary a plan for* * * ,” not “must” (16 U.S.C. 777g-1 (c)). A mandate does not exist. However, States may do planning under other Sport Fish Restoration Act grant programs for purposes eligible under those programs and apply the resulting plan to the BIG Program.

Issue 22. Will the Service accept existing plans?

Response: The Service will accept any plan certified by the appropriate Service Regional Office that ensures that public boat access is and will be adequate to meet the needs of recreational boaters on your State's waters (§ 86.134).

Issue 23. What are the products of the National Assessment?

Response: The products of the Comprehensive National Assessment are listed in § 86.124.

Issue 24. Complying with the National Environmental Policy Act and the Endangered Species Act could cause up to 2 years of delay.

Response: All grantees must agree to and certify compliance with all applicable Federal laws. We use a certified “Assurances” statement. We are making no changes to the proposed rule as a result of this comment.

Issue 25. Can States use consultant fees, design, permitting, and construction administration costs as match for Tier One projects?

Response: Allowable matching and cost-sharing regulations are in 43 CFR 12.64; specific questions should be directed to the appropriate Service Regional Office.

Issue 26. Reduce match to where local governments or small marinas can compete for funds.

Response: In accordance with the Act, only States are eligible for funding under this grant program.

Issue 27. Are pre-award costs allowable?

Response: Only as described under § 86.20.

Issue 28. Who assumes the administrative burden after the program expires in 3 years?

Response: We discuss maintenance of approved projects in 50 CFR 80.17.

Issue 29. How much money can we charge the public to tie-up?

Response: The going rate in the locality determines the amount for the facility. We are making no change to the proposed rule as a result of this comment.

Issue 30. For projects in Tier Two that exceed available funding in Tier Two, what is the methodology for awarding funds other than what States request?

Response: There is none. We cannot exceed established spending levels. If a State requires funds from two or more different programs to obtain full funding, the State is responsible for securing the funds.

Issue 31. In § 86.20(a)(3), substitute “deep enough” for “6 feet of depth at the lowest tide * * * .”

Response: We researched these depths before making this specification, and we are not making the recommended change.

Issue 32. In § 86.20(a)(5)(iii), delete the reference to “this program,” so that the sentence reads: “You may use funds from the Clean Vessel Act Program.”

Response: We encourage the construction of pumpout stations with either set of funds. We are making no changes to the proposed rule as a result of this comment.

Issue 33. In § 86.20(e)(1), add “contract documents.”

Response: No contract should be prepared and awarded until after we sign a grant; therefore, contract documents are not allowed as a pre-agreement cost. We are making no changes to the proposed rule as a result of this comment.

Issue 34. In § 86.21(e) and (g), add note on one-time dredging to (e) and add dinghy docks to (g).

Response: We address one-time dredging in § 86.20, and dinghy docks are not for transient vessels more than 26 feet in length. We are making no changes to the proposed rule as a result of this comment.

Issue 35. In § 86.21, make the State plan eligible for funding under BIG.

Response: State plans are eligible activities under the Sport Fish Restoration Act (16 U.S.C. 777).

Issue 36. In accordance with § 86.30, must I allow the public to use grant-funded facilities?

Response: Yes, § 86.30 specifies that reasonable access must be allowed and explains what that means.

Issue 37. In regard to § 86.54, one responder commented that the criterion referenced in § 86.60 was developed for competitive Tier Two projects and was not meant for Tier One projects. Tier One project funding was developed for States meeting the requirements in §§ 86.13 and 86.20.

Response: We agree and will change § 86.54(f)(1)(ii) (now § 86.53(d)(1)(ii) in the final rule) to read “* * * using the eligibility requirements in §§ 86.14 and 86.20.” (Section 86.13 from the proposed rule has become § 86.14 in the final rule.)

Issue 38. In regard to § 86.55(f), why are two sets of $100,000 proposals required? Why not require one $200,000 proposal?

Response: Tier One proposals in the first grant cycle will be funded by 2 different fiscal years. To provide additional clarity, we replaced the second sentence in § 86.55(f) (now § 86.54(f)) with wording similar to the following, “We will fund one proposal for each fiscal year provided that each proposal meets the eligibility requirements in §§ 86.13 (now 86.14) and 86.20.”

Issue 39. Sections 86.20 and 86.21 conflict in useful life of some outputs.

Response: We do not agree. Principal structures expected to last 20 years or more are different from navigational aids which may have a shorter lifespan. Only principal structures must be designed to last at least 20 years, therefore a conflict does not exist.

Issue 40. In regard to § 86.56, after the Service awards funds for a project, if it is found not to meet compliance requirements, where will these funds go?

Response: If a State cannot bring the project into compliance according to § 86.56 (now § 86.55), the funds may revert as required by the Act (16 U.S.C. 777c).

Issue 41. Regarding § 86.60(b), a respondent recommended considering construction in remote areas in the scoring priority and adding a statement to the Regulatory Flexibility Act section to give criteria points for remote sites.

Response: Section 86.60(b)(6) and (7) considers remote areas as they relate to significant links to prominent destinations, way-points, and national, regional, and local significant areas. Therefore, we do not see the need to alter the present guidance.

Issue 42. In § 86.60(b)(8), how will we assess “significant positive economic impact?”

Response: States should assess the economic impact of projects using a cost/benefit analysis as described in the example in § 86.60(b)(8). States should address this issue, along with all the other criteria, in the grant proposal.

Issue 43. In § 86.82(b), replace the word “slippage” with “deviation.”

Response: “Slippage” is the term used in 43 CFR 12.80(b)(2)(ii), which provides reporting requirements for assistance programs. We are making no changes to the proposed rule as a result of this comment.

Issue 44. In § 86.80, remove the requirement for quarterly reports.

Response: We are removing the requirement for quarterly reporting for Tier One projects only, according to 43 CFR 12.80, Monitoring and Reporting Program Performance.

Issue 45. In § 86.91, make States give credit to the Sport Fish Restoration Program for BIG grants.

Response: Credit to the Sport Fish Restoration Program remains optional. We have nothing on which to base making this issue mandatory. We are changing “may” in the last sentence to “* * * are encouraged to * * *”.

Issue 46. Could priority for services at tie-up facilities be given to transient boats over 26 feet in length? If so, how would States enforce the priority?

Response: No. While we intend the program to benefit transient, nontrailerable boats, States must give equal public access to all boaters. Consequently, enforcement is unnecessary.

Issue 47. The Service Director should convene a nongovernmental advisory committee to provide expertise on “recreational boating facilities needs.”

Response: Under the Federal Advisory Committee Act ( Pub. L. 92-463, 5 U.S.C. App.1), requirements for creating an advisory committee would significantly delay the distribution of the first cycle grant funds. However, opportunities may exist for the nongovernmental community to participate in the grant selection process, and the Service will investigate such opportunities.

Issue 48. Are maintenance and operation costs in remote areas eligible under § 86.20(4)?

Response: We cover maintenance under § 86.20(a); we specifically exclude operation and janitorial costs under § 86.21.

Issue 49. Provide sufficient time to rank and award proposals.

Response: We changed the application period for the first grant cycle to allow applicants 90 days to submit grant proposals to the appropriate Service Regional Office. This change occurs in § 86.50.

Regulatory Planning and Review (E.O. 12866)

In accordance with the criteria in Executive Order 12866, this rule is a significant regulatory action according to the following:

(a) This rule will not have an annual economic effect of $100 million or adversely affect an economic sector, productivity, jobs, the environment, or other units of government. Program funds total $8 million per year for 4 years, for a total of $32 million. Program funds for surveys total $1,050,000. States must match these amounts with 25 percent or $2 million per year. State match totals $8 million over 4 years. The program will not negatively affect an economic sector, productivity, jobs, and other units of government. The program will have a positive effect on these factors.

(b) This rule will not create inconsistencies with other agencies' actions. We will require the necessary Federal, State, and local reviews and permits before allowing construction of all facilities approved under the program. These reviews will ensure that this rule will not create inconsistencies with other agencies' actions.

(c) This rule will materially affect entitlements, grants, user fees, loan programs, or the rights and obligations of their recipients. This rule establishes a new grant program using existing funds that are otherwise available to State natural resource agencies under the Sport Fish Restoration Act (16 U.S.C. 777-777m). Recipients will voluntarily accept all stipulations prior to the Service awarding funds for facility construction. The program only obligates the recipient to maintain the facility. User fees are not mandatory and the program allows only enough charges to maintain the facility established by the grant.

(d) This rule will not raise novel legal or policy issues. This program will award funds to States to install facilities for transient nontrailerable boats. We will review all actions for compliance with the National Environmental Policy Act. This grant program is similar to past Federal Aid grant programs for construction of facilities.

Regulatory Flexibility Act

The Department certifies that this document will not have a significant economic effect on a substantial number of small entities under the Regulatory Flexibility Act (5 U.S.C. 601 et seq.). Eight million dollars will be available annually for a 4-year period. The effects of these regulations occur to agencies in the States, Puerto Rico, Guam, the Virgin Islands, American Samoa, the District of Columbia, and the Northern Mariana Islands. These are not small entities under the Regulatory Flexibility Act. Some small entities, mainly marina operators, may receive grant funds. The program will place facilities where none exist now, in remote areas where no competition exists, and in populated areas where marinas have not previously installed them. Employment, investment, productivity, and innovation should all increase because the program will construct facilities to attract transient boaters. The result will be a net transfer of expenditures in the area. U.S.-based enterprises' ability to compete with foreign-based enterprises should not be affected by this rule.

Small Business Regulatory Enforcement Fairness Act (SBREFA)

This regulation is not a major rule under 5 U.S.C. 804(2), the Small Business Regulatory Enforcement Fairness Act, as discussed in the Regulatory Planning and Review and Regulatory Flexibility Act sections above.

Unfunded Mandates Reform Act

This regulation does not impose an unfunded mandate on State, local, or tribal governments or the private sector of more than $100 million per year. This regulation does not have a significant or unique effect on State, local, tribal governments, or the private sector. The rule establishes a grant program that States may participate in voluntarily. A statement containing the information required by the Unfunded Mandates Reform Act (2 U.S.C. 1531 et seq.) is not necessary.

Takings (E.O. 12630)

In compliance with Executive Order 12630, this regulation does not have significant takings implications. The rule provides standardized procedures for administering a Federal discretionary grant program.

Federalism Assessment (E.O. 13132)

In compliance with Executive Order 13132, this regulation does not have sufficient Federalism implications to warrant the preparation of a Federalism Assessment. Through this regulation, eligible States will receive grants for construction, renovation, maintenance of boating facilities, and public information and education programs. Therefore, the rule is consistent with Executive Order 13132.

Civil Justice Reform (E.O. 12988)

In compliance with Executive Order 12988, the Office of the Solicitor has determined that this regulation does not unduly burden the judicial system and meets the requirements of §§ 3(a) and 3(b)(2) of the Order.

Paperwork Reduction Act

The information collection requirements contained in this regulation are only those necessary to fulfill applicable grant application requirements of 43 CFR Part 12; see 43 CFR 12.4 for information concerning OMB approval of those requirements. We have submitted the collections of information contained in this rule to the Office of Management and Budget for approval as required under 44 U.S.C. 3501 et seq. The Service will not collect this information until OMB has granted us approval. Additionally, no person may be required to respond to a collection of information unless it displays a currently valid OMB number.

The information collection requirement related to the surveys has a current OMB Approval Number 1018-0106 under the provisions of 44 U.S.C. 3501 et seq. In response to the comments received on the technical aspects of the proposed survey, we revised the survey improving the guidance, questions, and a lower time burden for completion.

What Intergovernmental Review Procedures Must I as a State follow?

Executive Order 12372, “Intergovernmental Review of Federal Programs,” and 43 CFR Part 9, “Intergovernmental Review of Department of the Interior Programs and Activities,” applies to the national BIG Program. Under the Order, you may design your own processes to review and comment on proposed Federal assistance under covered programs.

What Is My Responsibility as a State if I Participate in the Executive Order Process Having Single Points of Contact?

You should alert your Single Points of Contact (SPOC) to the prospective applications and receive any necessary instructions to provide material the SPOC requires. You must submit all required materials, if any, to the SPOC and show the date of this submittal (or the date of contact if the SPOC does not require submittal) on the narrative. If you are from a State that chooses to exempt the grants, you need take no action regarding E.O. 12372.

Author

The principal author of this rule is Steve Farrell, Project Officer, U.S. Fish and Wildlife Service, Division of Federal Aid, 4401 North Fairfax Drive, Suite 140, Arlington, Virginia 22203.

Regulation Promulgation

Accordingly, the Service hereby establishes part 86, subchapter F of Chapter I, Title 50 Code of Federal Regulations, as set forth below:

List of Subjects in 50 CFR Part 86

Administrative practice and procedure, Boats and boating, Grant programs—recreation, Natural resources, Recreation and recreation areas, Reporting and record keeping requirements.

For the reasons set out in the preamble, we amend Subchapter F of Chapter I, Title 50 of the Code of Federal Regulations, by adding a new part 86 to read as follows.

PART 86—BOATING INFRASTRUCTURE GRANT (BIG) PROGRAM

Subpart A—General Information About the Grant Program
Sec.
86.10 What does this regulation do?
86.11 What does the national BIG Program do?
86.12 Definitions of Terms Used in Part 86
86.13 What is boating infrastructure?
86.14 Who may apply for these grants?
86.15 How does the grant process work?
86.16 What are the information collection requirements?
Subpart B—Funding State Grant Proposals
86.20 What activities are eligible for funding?
86.21 What activities are ineligible for funding?
Subpart C—Public Use of the Facility
86.30 Must I allow the public to use the grant-funded facilities?
86.31 How much money may I charge the public to use tie-up facilities?
Subpart D—Funding Availability
86.40 How much money is available for grants?
86.41 How long will the money be available?
86.42 What are the match requirements?
86.43 May someone else supply the match?
86.44 What are my allowable costs?
86.45 When will I receive the funds?
Subpart E—How States Apply for Grants
86.50 When must I apply?
86.51 To whom must I apply?
86.52 What information must I include in my grant proposals?
86.53 What are funding tiers?
86.54 How must I submit proposals?
86.55 What are my compliance requirements with Federal laws, regulations, and policies?
Subpart F—How the Service Selects Projects To Receive Grants
86.60 What are the criteria used to select projects for grants?
86.61 What process does the Service use to select projects for grants?
86.62 What must I do after my project has been selected?
86.63 May I appeal if my project is not selected?
Subpart G—How States Manage Grants
86.70 What are my requirements to acquire, install, operate, and maintain real and personal property?
86.71 How will I be reimbursed?
86.72 Do any other Federal requirements apply to this program?
86.73 What if I do not spend all the money?
86.74 What if I need more money?
Subpart H—Reporting Requirements for the States
86.80 What are my reporting requirements for this grant program?
86.81 When are the reports due?
86.82 What must be in the reports?
Subpart I—State Use of Signs and Sport Fish Restoration Symbols
86.90 What are my responsibilities for information signs?
86.91 What are my program crediting responsibilities?
86.92 Who can use the SFR logo?
86.93 Where should I use the SFR logo?
86.94 What crediting language should I use?
Subpart J—Service Completion of the National Framework
86.100 What is the National Framework?
86.101 What is the Service schedule to adopt the National Framework?
86.102 How did the Service design the National Framework?
Subpart K—How States Will Complete a Boat Access Needs Survey (Survey)
86.110 What does the survey do?
86.111 Must I do a survey?
86.112 What are the advantages of doing a survey?
86.113 What if I have recently completed a survey?
86.114 Do I need to conduct a survey if I already have a plan for installing tie-up facilities?
86.115 How should I administer the survey?
86.116 May I change the questions in the survey?
86.117 [Reserved]
86.118 What does this survey include?
Subpart L—Completing the Comprehensive National Assessment
86.120 What is the Comprehensive National Assessment?
86.121 What does the Comprehensive National Assessment do?
86.122 Who completes the Comprehensive National Assessment?
86.123 Comprehensive National Assessment schedule.
86.124 What are the Comprehensive National Assessment products?
Subpart M—How States Will Complete the State Program Plans
86.130 What does the State program plan do?
86.131 Must I do a plan?
86.132 What are the advantages to doing a plan?
86.133 What are the plan standards?
86.134 What if I am already carrying out a plan?
86.135 [Reserved]
86.136 What must be in the plan?
86.137 What variables should I consider?

Authority: 16 U.S.C. 777g, 777g-1.

Subpart A—General Information About the Grant Program

§ 86.10 What does this regulation do?

In this part, the terms “I,” “you,” “my,” and “your” refer to the State agency seeking participation in the national Boating Infrastructure Grant (BIG) Program. “We” and “us” refers to the Fish and Wildlife Service. This part establishes your requirements under the Sportfishing and Boating Safety Act of 1998 to:

(a) Participate in the national BIG Program,

(b) Complete your boat access survey, and

(c) Develop State plans to install tie-up facilities for transient nontrailerable recreational vessels.

§ 86.11 What does the national BIG Program do?

This program provides funds for States to construct, renovate, and maintain tie-up facilities with features for transient boaters in vessels 26 feet or more in length, and to produce and distribute information and educational materials about the program.

§ 86.12 Definitions of terms used in part 86.

For the purposes of this part, the following terms are defined:

Construct means engaging in activities that produce new capital improvements and increase the value or usefulness of existing property. These activities include building new tie-up facilities or replacing or expanding existing tie-up facilities.

Grant means financial assistance the Federal Government awards to an eligible applicant.

Grant agreement means a contractual agreement used to obligate Federal Aid funds for carrying out work covered by an approved grant proposal.

Maintain means engaging in activities that allow the facility to continue to function, such as repairing docks. These activities exclude routine janitorial activities.

Navigable waters means waters connected to or part of the jurisdictional waters of the United States that transient nontrailerable recreational vessels currently use or can use.

Nontrailerable recreational vessels mean motorized boats 26 feet or more in length manufactured for and operated primarily for pleasure, including vessels leased, rented, or chartered to another person for his or her pleasure.

Project means a specific plan or design.

Proposal means a description of one or more projects for which a State requests grant funds.

Recreational waters means navigable waters that vessels use for recreational purposes.

Renovate means to rehabilitate or repair a tie-up facility to restore it to its original intended purpose, or to expand its purpose to allow transient nontrailerable recreational vessels.

States means individual States within the United States, the District of Columbia, the Commonwealth of Puerto Rico, Guam, American Samoa, the Virgin Islands, and the Commonwealth of the Northern Mariana Islands.

Survey instrument means a tool developed by the Service and approved by OMB to assess the need for boating facilities.

Tie-up facilities mean facilities that transient nontrailerable recreational vessels occupy temporarily, not to exceed 10 consecutive days; for example, temporary shelter from a storm; a way station en route to a destination; a mooring feature for fishing; or a dock to visit a recreational, historic, cultural, natural, or scenic site.

Transient means passing through or by a place, staying 10 days or less.

Water-body means the lake, section of river, or specific area of the coast, such as a harbor or cove, where tie-up facilities or boat access sites are located.

§ 86.13 What is boating infrastructure?

Boating infrastructure refers to features that provide stopover places for transient nontrailerable recreational vessels to tie up. These features include, but are not limited to:

(a) Mooring buoys (permanently anchored floats designed to tie up nontrailerable recreational vessels);

(b) Day-docks (tie-up facilities that do not allow overnight use);

(c) Navigational aids (e.g., channel markers, buoys, and directional information);

(d) Transient slips (slips that boaters with nontrailerable recreational vessels occupy for no more than 10 consecutive days);

(e) Safe harbors (facilities protected from waves, wind, tides, ice, currents, etc., that provide a temporary safe anchorage point or harbor of refuge during storms);

(f) Floating docks and fixed piers;

(g) Floating and fixed breakwaters;

(h) Dinghy docks (floating or fixed platforms that boaters with nontrailerable recreational vessels use for a temporary tie-up of their small boats to reach the shore);

(i) Restrooms;

(j) Retaining walls;

(k) Bulkheads;

(l) Dockside utilities;

(m) Pumpout stations;

(n) Recycling and trash receptacles;

(o) Dockside electric service;

(p) Dockside water supplies;

(q) Dockside pay telephones;

(r) Debris deflection booms; and

(s) Marine fueling stations.

§ 86.14 Who may apply for these grants?

You, with authority from your State Government. You must identify one key contact only and submit proposals through this person.

§ 86.15 How does the grant process work?

To ensure that grants address the highest national priorities identified in the Act, we make funds available on a competitive basis. You must submit your proposals by the appropriate date as specified in § 86.50. You must address certain questions and criteria (listed in § 86.52) to be eligible and competitive. We will conduct a panel review of all proposals, and the Service Director will make the final grant awards. You may begin work on your project only after you receive a fully executed grant agreement.

§ 86.16 What are the information collection requirements?

This part contains both routine information collection and survey requirements, as follows:

(a) The routine information collection requirements for grants applications and associated record keeping contained in this part are only those necessary to fulfill applicable requirements of 43 CFR part 12. These requirements include record keeping and reporting requirements. See 43 CFR 12.4 for information concerning OMB approval of those requirements.

(b) The revised information collection requirements related to the surveys will be submitted to OMB for approval as changed. They will not be imposed until we receive OMB approval under the provisions of 44 U.S.C. 3501 et seq. The surveys are voluntary and are for States to determine the adequacy, number, location, and quality of facilities that provide public access for all sizes of recreational boats. The public's burden estimate for the survey is as follows:

Type of information | Number of respondents* | Average time required per response (minutes) | Annual burden hours
Boat owners: Part A | 11,200 | 12 | 2,240
Boat owners: Part B | 28,000 | 12 | 5,600
Boat Service Providers: Part C | 8,400 | 20 | 2,800
Boat Service Providers: Part D | 4,000 | 20 | 1,333
* These numbers are not additive since some boaters will fill out both Parts A and B, and most of the providers will fill out both Parts C and D.

(c) Send comments regarding this collection of information to the Service Information Collection Clearance Officer, MS—222 ARLSQ, Fish and Wildlife Service, Washington, DC 20240, and the Office of Management and Budget, Department of Interior, Desk Officer, 1849 C Street, NW., Washington, DC 20503. An Agency may not conduct or sponsor, and a person is not required to respond to, a collection of information unless it displays a currently valid OMB control number. OMB has up to 60 days to approve or disapprove the information collection but may respond after 30 days. Therefore, to ensure maximum consideration, you must send your comments to OMB by the above referenced date.

Subpart B—Funding State Grant Proposals

§ 86.20 What activities are eligible for funding?

Your project is eligible for funding if you propose to:

(a) Construct, renovate, and maintain either publicly or privately owned boating infrastructure tie-up facilities. To be eligible you must:

(1) Build these tie-up facilities on navigable waters, available to the public. You must design new construction and renovations to last at least 20 years;

(2) Design these tie-up facilities for temporary use for transient nontrailerable recreational vessels;

(3) Build these tie-up facilities in water deep enough for nontrailerable recreational vessels to navigate (a minimum of 6 feet of depth at the lowest tide or other measure of lowest fluctuation);

(4) Provide security, safety, and service for these boats; and,

(5) Install a pumpout station, if you construct a facility for overnight stays:

(i) If there is already a pumpout within a reasonable distance (generally within 2 miles) of the facility, you may not need one;

(ii) For facilities intended as day stops, we encourage you to install a pumpout; and,

(iii) You may use funds from the BIG program, or the Clean Vessel Act pumpout grant program also administered by us, to pay for a pumpout station.

(b) Do one-time dredging only, to give transient vessels safe channel depths between the tie-up facility and maintained channels or open water.

(c) Install navigational aids, limited to giving transient vessels safe passage between the tie-up facility and maintained channels or open water.

(d) Apply funds to grant administration.

(e) Fund preliminary costs:

(1) Preliminary costs may include any of the following activities completed before signing a grant agreement:

(i) Conducting appraisals;

(ii) Administering environmental reviews and permitting;

(iii) Conducting technical feasibility studies, for example, studies about environmental, economic, and construction engineering concerns;

(iv) Carrying out site surveys and engaging in site planning;

(v) Preparing cost estimates; and

(vi) Preparing working drawings, construction plans, and specifications.

(2) We will fund preliminary costs only if we approve the project.

(3) If the project is approved, the appropriate Service Regional Director must still approve preliminary costs.

(f) Produce information and education materials such as charts, cruising guides, and brochures.

§ 86.21 What activities are ineligible for funding?

Your project is ineligible for funding if you propose to:

(a) Complete a project that does not provide public benefits, for instance, a project that is not open to the public for use;

(b) Involve law enforcement activities;

(c) Significantly degrade or destroy valuable natural resources or alter the cultural or historic nature of the area;

(d) Construct or renovate principal structures not expected to last at least 20 years;

(e) Do maintenance dredging;

(f) Fund operations or routine, custodial, and janitorial maintenance of the facility;

(g) Construct, renovate, or maintain boating infrastructure tie-up facilities for nontrailerable vessels, for example the following:

(1) Tie-up slips available for occupancy for more than 10 consecutive days by a single party;

(2) Dryland storage;

(3) Haul-out features; and

(4) Boating features for trailerable or “car-top” boats (boats less than 26 feet in length), such as launch ramps and carry-down walkways.

(h) Develop a State program plan to construct, renovate, and maintain boating infrastructure tie-up facilities; and

(i) Conduct surveys to determine boating access needs.

(1) You may conduct the survey with funds allocated to motorboat access to recreational waters under subsection (b)(1) of section 8 of the Federal Aid in Sport Fish Restoration Act of 1950, as amended (16 U.S.C. 777).

(2) You may combine surveys under one contractor where feasible if you can realize a cost or other savings.

Subpart C—Public Use of the Facility

§ 86.30 Must I allow the public to use the grant-funded facilities?

(a) You must allow reasonable access to all recreational vessels for the useful life of the tie-up facilities. Accessible to the public means located where the public can reasonably reach the facility and where all boats typical to that facility can easily use it, charging equitable fees, and being open for reasonable periods. You must allow public access to the shore and basic features such as fuel and restrooms in facilities that have them. You must specify precise details of the public access in the contract with the facility manager. We do not require public access to the remainder of a park or marina where the facility is found. Nor do we require any restrictions in that park or marina.

(b) You must comply with Americans with Disabilities Act requirements when you construct or renovate all tie-up facilities under this grant.

§ 86.31 How much money may I charge the public to use tie-up facilities?

You may charge the public only a reasonable fee, based on the prevailing rate in the area. You must determine a fee that does not pose an unreasonable, competitive amount, based on other publicly and privately owned tie-up facilities in the area. You must approve any proposed changes in fee structure by a sub-grantee.

Subpart D—Funding Availability

§ 86.40 How much money is available for grants?

There is $32 million available for grants under the BIG program ($8 million per year for fiscal years 2000-2003).

§ 86.41 How long will the money be available?

Under the Act, funding for the BIG program is provided for FY 2000-2003. Each year's funds remain available for obligation for a total of three fiscal years (e.g. FY 2000 funds will remain available through FY 2002) (16 U.S.C. 777c(b)(3)(B)).

§ 86.42 What are the match requirements?

The Act authorizes the Secretary of the Interior (through the Director of the U.S. Fish and Wildlife Service (Service)) to award grants to States to pay up to 75 percent of the cost to construct, renovate, or maintain tie-up facilities for transient nontrailerable recreational vessels. You or a partner must pay the remaining project cost—at least a 25 percent match is required. Title 43 CFR 12.64 applies to cost sharing or matching requirements for Federal grants.

§ 86.43 May someone else supply the match?

Third-party contribution, including property and in-kind services, is allowable, but must be necessary and reasonable to accomplish grant objectives. In-kind contributions must also represent the current market value of noncash contributions that the third party furnishes as part of the grant.

§ 86.44 What are my allowable costs?

(a) The State may spend grant funds to pay only costs that are necessary and reasonable to accomplish the approved grant objectives. Grant costs must meet the applicable Federal cost principles in 43 CFR 12.62. You may purchase informational and program signs as allowable costs.

(b) If you include purposes other than those eligible under the Act, you must prorate the costs equitably according to Federal cost principles in 43 CFR 12.62 and 50 CFR 80.15.

§ 86.45 When will I receive the funds?

Once you sign the grant agreement, we will make the funds available.

Subpart E—How States Apply for Grants

§ 86.50 When must I apply?

(a) We will accept proposals between February 20, 2001, and May 18, 2001, for the first grant cycle; between July 1, 2001, and September 30, 2001, for the second grant cycle; and between July 1, 2002, and September 30, 2002, for the third grant cycle. This program starts fiscal year 2000 and ends fiscal year 2003. We will have $16 million to award the first grant cycle, and $8 million each cycle after that.

(b) The annual schedule follows:

Action | FY 2000-2001 | FY 2002 | FY 2003
We announce the beginning of the grant cycle | February 20, 2001 | July 1, 2001 | July 1, 2002.
You submit your grant proposal by | May 18, 2001 | September 30, 2001 | September 30, 2002.
Regions submit the proposals to Washington by | June 18, 2001 | October 31, 2001 | October 31, 2002.
We rank the proposals by | July 17, 2001 | November 30, 2001 | November 30, 2002.
The Director approves proposals by | August 16, 2001 | December 31, 2001 | December 31, 2002.
Regions finalize their grant agreements by | October 15, 2001 | February 28, 2002 | February 28, 2003.

§ 86.51 To whom must I apply?

You must submit your proposals to the appropriate regional office of the U.S. Fish and Wildlife Service. See the chart below for the address you will need.

Region | State | Address | Telephone
1 | California, Hawaii, Idaho, Nevada, Oregon, Washington, American Samoa, Commonwealth of the Northern Mariana Islands, and Guam | Division of Federal Aid, U.S. Fish & Wildlife Service, Eastside Federal Complex, 911 NE 11th Avenue, Portland, OR 97232-4181 | 503-231-6128, Fax: 503-231-6996
2 | Arizona, New Mexico, Oklahoma, and Texas | Division of Federal Aid, U.S. Fish & Wildlife Service, P.O. Box 1306, 625 Silver, SW, Suite 325, Albuquerque, NM 87102 | 505-248-7450, Fax: 505-248-7471
3 | Illinois, Indiana, Iowa, Michigan, Minnesota, Missouri, Ohio, and Wisconsin | Division of Federal Aid, U.S. Fish & Wildlife Service, Bishop Henry Whipple Federal Building, 1 Federal Drive, Fort Snelling, MN 55111-4056 | 612-713-5130, Fax: 612-713-5290
4 | Alabama, Arkansas, Florida, Georgia, Kentucky, Louisiana, Mississippi, North Carolina, South Carolina, Tennessee, Puerto Rico, and the Virgin Islands | Division of Federal Aid, U.S. Fish & Wildlife Service, 1875 Century Boulevard, Suite 324, Atlanta, Georgia 30345 | 404-679-4159, Fax: 404-679-4160
5 | Connecticut, Delaware, District of Columbia, Maine, Maryland, Massachusetts, New Hampshire, New Jersey, New York, Pennsylvania, Rhode Island, Vermont, Virginia, and West Virginia | Division of Federal Aid, U.S. Fish & Wildlife Service, 300 Westgate Center Drive, Hadley, MA 01035-9589 | 413-253-8200, Fax: 413-253-8487
6 | Colorado, Kansas, Montana, Nebraska, North Dakota, South Dakota, Utah, and Wyoming | Division of Federal Aid, U.S. Fish & Wildlife Service, Denver Federal Center, P.O. Box 25486, Lake Plaza North Building, 134 Union Boulevard, 4th Floor, Denver, Colorado 80225 | 303-236-7392, Fax: 303-236-8192
7 | Alaska | Division of Federal Aid, U.S. Fish & Wildlife Service, 1011 East Tudor Road, Anchorage, Alaska 99503 | 907-786-3435, Fax: 907-786-3575

§ 86.52 What information must I include in my grant proposals?

You must submit the following standard forms and narrative for all projects (Tier One and Tier Two) (see § 86.53):

(a) Standard Form 424 series as prescribed by the Office of Management and Budget. The SF 424 series consists of the Applications for Federal Assistance (SF 424), Budget Information_Non-Construction Programs (SF 424A), Assurances_Non-Construction Programs (SF 424B), Budget Information_Construction Programs (SF 424C), and Assurances_Construction Programs (SF 424D). Submit forms appropriate for either construction or nonconstruction projects. Forms are available from your appropriate Service Regional Office.

(b) Information requested under OMB Circular A-102 (Application Booklet for Federal Aid Grants—pending approval under the Paperwork Reduction Act).

§ 86.53 What are funding tiers?

(a) This grant program will consist of two tiers of funding.

(i) You may apply for one or both tiers.

(ii) The two tiers will allow all States some certainty of base level funding.

(b) Tier One funding will ensure broad geographical distribution to meet the needs of transient nontrailerable recreational vessels.

(c) Tier Two funding will allow States with large projects to compete with other States with large projects based on individual project merits.

(d) We describe the two tiers as follows:

(1) Tier One Projects.

(i) You may submit a proposal with an unlimited number of projects within this tier. However, your total request cannot exceed $100,000 of Federal funds for any given fiscal year.

(ii) Tier One projects must meet the eligibility requirements in §§ 86.14 and 86.20.

(2) Tier Two Projects.

(i) While we expect available funds for Tier Two proposals to be between $3 million and $4 million per grant cycle, we have no dollar limit for Tier Two proposals. You may submit any number of projects, which we will score and rank separately according to the criteria in § 86.60.

(ii) Each project will compete nationally against every other project in Tier Two.

(iii) Tier Two projects must also meet the eligibility requirements in §§ 86.14 and 86.20.

§ 86.54 How must I submit proposals?

(a) You may apply for either Tier One funding or Tier Two funding or both.

(b) You may submit more than one project proposal within Tier One and Tier Two.

(c) You may submit one proposal that includes Tier One and Tier Two projects.

(d) If your proposal includes Tier One and Tier Two projects, you must describe Tier One projects separately from Tier Two projects.

(e) You must describe each project in Tier Two separately, so that the Service can rank and score each project in Tier Two separately.

(f) For the first grant cycle, which includes fiscal years 2000 and 2001, a State may submit one Tier One proposal not to exceed $100,000 per fiscal year. States should submit proposals between February 20, 2001, and May 18, 2001. We will fund one Tier One proposal per State for each fiscal year provided that each proposal meets the eligibility requirements in §§ 86.14 and 86.20. Fiscal year 2000 funds are available only for Tier One proposals. Tier One proposals need not meet the criteria in § 86.60. We will fund Tier Two proposals received between February 20, 2001, and May 18, 2001, that meet the criteria in §§ 86.14, 86.20, and 86.60 with fiscal year 2001 funds and the remainder of fiscal year 2000 funds.

(g) For the remaining grant cycles, you may submit only one proposal of Tier One projects per fiscal year.

(h) When we approve projects, the appropriate Service Regional Office will determine how many grant agreements are necessary.

§ 86.55 What are my compliance requirements with Federal laws, regulations, and policies?

(a) To receive Federal funds, you must agree to and certify compliance with all applicable Federal laws, regulations, and policies. You must submit an Assurance Statement, as described in 43 CFR part 12.51(c), that describes how you comply with Federal grant requirements; and

(b) You may have to provide additional documentation to comply with environmental and other laws, as defined in Fish and Wildlife Service Manual 523 FW 1 (available on the internet at http://www.fws.gov/directives/523fw1.html). The Service Regional Office Grant Administrator may request preliminary evidence at the grant proposal stage that the proposed project will meet these compliance requirements. Consult with the appropriate Service Regional Office for specific applicability.

Subpart F—How the Service Selects Projects To Receive Grants

§ 86.60 What are the criteria used to select projects for grants?

(a) We will rank all Tier Two proposals according to the criteria in paragraph (b) of this section and the attached chart, which sets forth points we will ascribe for various factors.

(b) We will consider proposals that:

(1) Plan to construct, renovate, and maintain tie-up facilities for transient nontrailerable recreational vessels following priorities identified in your State's program plan (see Subpart M for State program plan information) that the Secretary of the Interior has approved under section 7404(c) of the Sportfishing and Boating Safety Act | 15 points.
(2) Provide for public/private and public/public partnership efforts to develop, renovate, and maintain tie-up facilities. These partners must be other than the Service and lead State agency:
(i) One partner | 5 points.
(ii) Two partners | 10 points.
(iii) Three or more partners | 15 points.
(3) Use innovative techniques to increase the availability of tie-up facilities for transient nontrailerable recreational vessels (includes education/information) | 0-15 points.
(4) Include private, local, or other State funds in addition to the non-Federal match, described in § 86.42:
(i) Twenty-six percent to thirty-five percent | 5 points.
(ii) Between thirty-six and forty-nine percent | 10 points.
(iii) Fifty percent and above | 15 points.
(5) Are cost efficient. Proposals are cost efficient when the tie-up facility or access site's features add a high value compared with the funds from the proposal, for example, where you construct a small feature such as a transient mooring dock within an existing harbor that adds high value and opportunity to existing features (restrooms, utilities, etc.). A proposal that requires installing all of the above features would add less value for the cost | 0-10 points.
(6) Provide a significant link to prominent destination way points such as those near metropolitan population centers, cultural or natural areas, or that provide safe harbors from storms | 10 points.
(7) Provide access to recreational, historic, cultural, natural, or scenic opportunities of national, regional, or local significance. Projects that provide access to opportunities of national, regional, or local significance receive 5 points for each, for a maximum of 15 points
(8) Provide significant positive economic impacts to a community. For example, a project that costs $100,000 and attracts a number of boaters who altogether spend $1 million a year in the community | 1-5 points.
(9) Include multi-State efforts that result in coordinating location of tie-up facilities | 5 points.
(10) Total possible points | 105 points.

Criteria | Points
(1) Construct Tie-up Facilities | 15
(2) Provide Partnership Efforts | 5-15
(3) Use Innovative Techniques | 0-15
(4) Include Other Funding Sources | 5-15
(5) Are Cost Efficient | 0-10
(6) Provide Way Point Linkage | 10
(7) Provide Access To Opportunities | 5-15
(8) Provide Significant Economic Impacts | 1-5
(9) Include Multi-State Efforts | 5
(10) Total Possible Points | 105

§ 86.61 What process does the Service use to select projects for grants?

The Service's Division of Federal Aid convenes a panel of professional staff to review, rank, and recommend funding to the Service Director. This panel will include representatives from the Service's Washington, DC, and Regional Offices. The Director may convene an advisory panel of nongovernmental organizations to advise and make recommendations to the Federal panel. The Service Director will select projects for grants by August 16, 2001, August 10, 2001, and August 10, 2002, for the three grant cycles.

§ 86.62 What must I do after my project has been selected?

After we approve your award, we will notify you to work with the appropriate Service Regional Office to fulfill the grant documentation requirements and finalize the grant agreement.

§ 86.63 May I appeal if my project is not selected?

If you have a difference of opinion over the eligibility of proposed activities or differences arising over the conduct of work, you may appeal to the Director. Final determination rests with the Secretary of the Interior (50 CFR 80.7).

Subpart G—How States Manage Grants

§ 86.70 What are my requirements to acquire, install, operate, and maintain real and personal property?

(a) You will find applicable regulations for this subject in 43 CFR 12.71 and 12.72. If you have questions about applicability, contact the appropriate Service Regional Office.

(b) You must ensure that the design and installation of tie-up facilities provide for substantial structures that will have a significant longevity, at least 20 years.

(c) You must ensure that you operate, maintain, and use the tie-up facilities and features for the stated grant purpose. You must obtain prior written approval from the appropriate Service Regional Director before you can convert these tie-up facilities to other uses.

§ 86.71 How will I be reimbursed?

For details on how we will pay you, refer to 43 CFR 12.61.

§ 86.72 Do any other Federal requirements apply to this program?

For administrative requirements not covered under these specific guidelines, check 43 CFR 12, which generally applies to all Federal grant programs.

§ 86.73 What if I do not spend all the money?

Funds not obligated or expended after 3 fiscal years from the date of the award revert to the Secretary of Transportation for use in State recreational boating safety programs. (16 U.S.C. 777c(b)(3)(B), 16 U.S.C. 777c(b)(4))

§ 86.74 What if I need more money?

Funds for grants are available only on a competitive basis. Therefore, if you need more money, you must compete in the next grant cycle.

Subpart H—Reporting Requirements for the States

§ 86.80 What are my reporting requirements for this grant program?

(a) For all projects, you must submit to the appropriate Service Regional Office an annual report and a final performance report and otherwise comply with 43 CFR 12.80.

(b) For Tier Two projects, you must submit quarterly reports according to 43 CFR 12.80.

§ 86.81 When are the reports due?

Reports are due as follows:

(a) Annual reports are due 90 days after the grant year ends;

(b) The final performance report is due 90 days after the expiration or termination of grant support;

(c) Tier Two quarterly reports are due January 31, April 30, July 31, and October 31 unless specified otherwise in the grant agreement; and

(d) The State must report certified percentage of completion data and other significant developments in accordance with the grant agreement or 43 CFR 12.80.

§ 86.82 What must be in the reports?

The reports must include the following:

(a) You must identify the actual accomplishments compared to the objectives established for the period;

(b) You must identify the reasons for any slippage if established objectives were not met; and

(c) You must identify any additional pertinent information including, when appropriate, analysis and explanation of cost overruns or high unit costs.

Subpart I—State Use of Signs and Sport Fish Restoration Symbols

§ 86.90 What are my responsibilities for information signs?

You should install appropriate information signs at boating infrastructure tie-up facilities. You should ensure that this information is clearly visible, directing boaters to the facility. Information should show fees, restrictions, hours of operation, a contact name, and telephone number to report an inoperable facility.

§ 86.91 What are my program crediting responsibilities?

You should give public credit to the Federal Aid in Sport Fish Restoration (SFR) program as the source of funding for the BIG Program. You should recognize this program by using the SFR logo. You are encouraged to use the crediting logo identified in § 80.26 of this chapter to identify national BIG Program projects.

§ 86.92 Who can use the SFR logo?

The States may use the SFR logo and should encourage others to display it. Other people or organizations may use the logo for purposes related to the national BIG Program as authorized in § 80.26 of this chapter.

§ 86.93 Where should I use the SFR logo?

You should display the logo on tie-up facilities that you construct, acquire, develop, or maintain under these grants. You should also use the logo on printed material or other visual representations that relate to project accomplishments or education/information. Refer to § 85.47 of this chapter for logo colors.

§ 86.94 What crediting language should I use?

Suggested examples of language to use when crediting the national BIG Program follow:

(a) Example 1: The Federal Aid in Sport Fish Restoration Program funded this facility thanks to your purchase of fishing equipment and motorboat fuels.

(b) Example 2: The Federal Aid in Sport Fish Restoration Program is funding this construction thanks to your purchase of fishing equipment and motorboat fuels. And,

(c) Example 3: The Federal Aid in Sport Fish Restoration Program funded this (pamphlet) thanks to your purchase of fishing equipment and motorboat fuels.

Subpart J—Service Completion of the National Framework

§ 86.100 What is the National Framework?

The National Framework is the survey, required by the Act, you must use to determine boating access needs in your State. Through a State survey, you must conduct a boating access needs assessment or data collection to determine the adequacy, number, location, and quality of tie-up facilities and boat access sites providing access to recreational waters for all sizes of recreational boats.

§ 86.101 What is the Service schedule to adopt the National Framework?

The Secretary of the Interior adopted the National Framework on September 28, 2000 via a notice in the Federal Register (Volume 65, Number 189, Page 58284).

§ 86.102 How did the Service design the National Framework?

The Framework divides the survey into two components: boater survey, and boat access provider survey.

(a) The purpose of the boater survey component is to identify boat user preferences and concerns for existing and needed access available to the public.

(1) The nontrailerable boat data set will fulfill informational needs for you to develop your State program plans as called for in the Act.

(2) The boater survey will survey registered boat owners in your State for two types of boats:

(i) Part A—for nontrailerable recreational vessels.

(ii) Part B—for trailerable and “car-top” boats (less than 26 feet long).

(b) The purpose of the boat access provider component is to identify boat access providers' ideas about current and needed facility and site locations and perceptions of boat user preferences and concerns regarding access. We developed these questions to guide interviews of boat access facility and site managers.

(1) The nontrailerable boat data set will fulfill the informational needs for you to develop your State plans as called for in the Act.

(2) The boat access provider survey will survey facility providers in your State for two types of boats:

(i) Part C—a survey to all providers in your State who allow public access, including State agency and non-State entities (Federal and local government entities, corporate and private/commercial providers), and operate tie-up facilities for nontrailerable recreational vessels.

(ii) Part D—a survey to all providers in your State who allow public access and operate boat access sites for boats less than 26 feet long.

Subpart K—How States Will Complete Access Needs Surveys

§ 86.110 What does the State survey do?

The State survey determines the status of boating access facilities for all recreational boats in your State and your future boater access needs.

§ 86.111 Must I do a survey?

The Act does not require surveys. They are voluntary. However, if you do a survey, you must complete it following the National Framework to receive funds. You must transmit the results to the Service Regional Offices in a common electronic format, such as Microsoft Word, Word Perfect, Excel or Quattro Pro.

§ 86.112 What are the advantages of doing a survey?

Surveys provide the information necessary to fully understand the needs of boaters in your State. Surveys allow you to develop a meaningful plan to provide better access to boaters. Use surveys to complete the plan.

§ 86.113 What if I have recently completed a boat access survey?

If the recent survey substantially answers the provisions in § 86.118, the appropriate Service Regional Office will determine if it is sufficient to meet the needs of the program. If the Regional Office determines that the survey is not sufficient, you must complete that portion(s) or an entire new survey to receive credit for completing a recent survey.

§ 86.114 Do I need to conduct a survey if I already have a plan for installing tie-up facilities?

You need not conduct the survey if the appropriate Secretary of the Interior certifies that you have developed and are carrying out a State program plan, as described in Subpart M of this chapter, that ensures that public boat access exists and is adequate to meet the needs of recreational boaters on your waters.

§ 86.115 How should I administer the survey?

Use a consultant or university specializing in administration of such surveys. Use sample sizes large enough to achieve statistical accuracy so the estimate is within plus or minus 10 percent of the true number.

(a) You may use a telephone, mail, or other type of survey for a sample population of boaters within the State. Costs for telephone and mail surveys are roughly similar. However, response rates for mail surveys are generally lower.

(b) For boat access providers, we prefer that you survey all State agency and non-State providers, but you may survey a sample population.

(c) You may develop your own methodology to collect data, which may include telephone, mail, fax, or other inventory means. We do not expect you to use automated, electronic, mechanical, or similar means of information collection.

(d) Data collected are unique to each respondent. Data collection should use standard survey method criteria to gather information from each respondent.

§ 86.116 May I change the questions in the survey?

You must not change the questions because we need information that is comparable nationwide. We have developed a survey instrument for completing the surveys. We are seeking approval from OMB on the survey questions and the OMB approval does not extend to additional questions.

§ 86.117 Reserved for survey approval schedule.

§ 86.118 What does this survey instrument include?

(a) We divided this survey into four parts. Part A being for transient nontrailerable boat owners. Part B is for trailerable or “car-top” boat owners. Part C is for State agency and non-State providers of facilities for nontrailerable recreational vessels in the State. Part D is for State and non-State providers of access sites for trailerable or “car-top” boats.

(b) Follow these instructions to complete Part A—BOAT OWNER SURVEY FOR TIE-UP FACILITIES FOR NONTRAILERABLE RECREATIONAL VESSELS:

(1) If the boater owns a nontrailerable recreational vessel, ask the boater to fill out Part A;

(2) If the boater owns more than one boat 26 feet or more in length, ask the boater to provide information for the boat he or she uses most often;

(3) If the boater owns at least one boat more than and at least one boat less than 26 feet in length, ask the boater to fill out both Parts A and B; and,

(4) You should use a sample size large enough to achieve statistical accuracy so the estimate is within 10 percent of the true number.

(c) Follow these instructions to complete Part B—BOAT OWNER SURVEY FOR TRAILERABLE OR “CAR-TOP” BOAT ACCESS SITES:

(1) If the boater owns a boat less than 26 feet long, ask the boater to fill out Part B;

(2) If the boater owns more than one boat less than 26 feet long, ask the boater to provide information for the boat he or she uses most;

(3) If the boater owns at least one boat more than and at least one boat less than 26 feet in length, ask the boater to complete both Parts A and B; and,

(4) You should use a sample size large enough to achieve statistical accuracy so the estimate is within 10 percent of the true number.

(d) Parts C and D are surveys for providers of tie-up facilities and boat access sites. Part C is for State agency and non-State providers of facilities for nontrailerable recreational vessels in the State. Part D is for State and non-State providers of boat access sites for boats less than 26 feet in length.

(e) Follow these instructions to complete Part C—STATE AGENCY AND NON-STATE PROVIDER SURVEY FOR TIE-UP FACILITIES:

(1) Ask State agency and non-State providers of tie-up facilities for nontrailerable recreational vessels to fill out Part C.

(2) If more than one State agency manages these facilities, send this survey to all of those agencies.

(3) If the State agency or non-State provider awards grants to others who provide facilities, ask these grantees to respond for these facilities instead of the State agency or non-State provider.

(4) If a State agency or non-State provider operates facilities and sites for both nontrailerable and trailerable boats, ask the provider to fill out both Parts C and D.

(5) Ask State agency and non-State providers to identify all tie-up facilities.

(6) For all questions, if you need additional space, make copies of the appropriate page.

(f) Follow these instructions to complete Part D—STATE AGENCY AND NON-STATE PROVIDER SURVEY FOR TRAILERABLE BOAT ACCESS SITES:

(1) Ask State agency and non-State providers of access sites for boats less than 26 feet long to fill out Part D.

(2) Non-State providers include the Federal Government, local government, corporations, private owners, and others.

(3) If more than one State agency manages these sites, send this survey to all of them.

(4) If the State agency or non-State provider awards grants to others who provide sites, ask these grantees to respond for these sites instead of the State agency or non-State provider.

(5) If a State agency or non-State provider operates facilities and sites for both nontrailerable and trailerable boats, ask the provider to fill out both Parts C and D.

(6) We prefer that the State agency or non-State provider identify all boat access sites and water-bodies, but if he or she has many sites and water-bodies, the provider may group the information together rather than identify each site individually.

(7) For all questions, if you need additional space, make copies of the appropriate page.

Subpart L—Completing the Comprehensive National Assessment

§ 86.120 What is the Comprehensive National Assessment?

The Comprehensive National Assessment is a national report integrating the results of State boat access needs and facility surveys.

§ 86.121 What does the Comprehensive National Assessment do?

The Comprehensive National Assessment determines nationwide the adequacy, number, location, and quality of public tie-up facilities and boat access sites for all sizes of recreational boats.

§ 86.122 Who completes the Comprehensive National Assessment?

The Service completes the Assessment. We will develop standards in consultation with the States.

§ 86.123 Comprehensive National Assessment schedule.

Using the results from the State surveys, the Service will compile the results and produce the Comprehensive National Assessment by September 30, 2003.

§ 86.124 What are the Comprehensive National Assessment products?

The Comprehensive National Assessment products are:

(a) A single report, including the following information:

(1) A national summary of all the information gathered in the State surveys.

(2) A table of States showing the results of the information gathered.

(3) One-page individual State summaries of the information.

(4) Appendices that include the survey questions, and names, addresses, and telephone numbers of State contacts.

(5) An introduction, background, methodology, results, and findings.

(6) Information on the following:

(i) Boater trends, such as what types of boats they own, where they boat, and how often they boat.

(ii) Boater needs, such as where facilities and sites are now found, where boaters need new facilities and boat access sites, and what changes of features boaters need at these facilities and sites. And

(iii) Condition of facilities.

(b) Summary report abstracting important information from the final national report. And

(c) A key findings fact sheet suitable for widespread distribution.

Subpart M—How States Will Complete the State Program Plans

§ 86.130 What does the State program plan do?

The State program plan identifies the construction, renovation, and maintenance of tie-up facilities needed to meet nontrailerable recreational vessel user needs in the State.

§ 86.131 Must I do a plan?

The Act does not require plans. Plans are voluntary. However, if you do a plan, you must complete it following these regulations.

§ 86.132 What are the advantages to doing a plan?

Plans provide the information necessary to fully understand the needs of boaters operating nontrailerable recreational vessels in your State. The plan will make you more competitive when you submit grants under this program. We will give you 15 points for having an approved plan.

§ 86.133 What are the plan standards?

You must base State program plans on a recent, completed survey following the National Framework.

§ 86.134 What if I am already carrying out a plan?

You need not develop a program plan if we certify that you have developed and are carrying out a plan that ensures public boat access is and will be adequate to meet the needs of recreational boaters on your waters.

§ 86.135 Reserved for plan approval schedule.

§ 86.136 What must be in the plan?

The plan must:

(a) Identify current boat use and patterns of use.

(b) Identify current tie-up facilities and features open to the public and their condition.

(c) Identify boat access user needs and preferences and their desired locations. Include repair, replacement, and expansion needs and new tie-up facilities and features needed.

(d) Identify factors that inhibit boating in specific areas, such as lack of facilities, or conditions attached that inhibit full use of facilities. Identify strategies to overcome these problems.

(e) Include information about the longevity of current tie-up facilities.

§ 86.137 What variables should I consider?

You should consider the following variables:

(a) Location of population centers,

(b) Boat-based recreation demand,

(c) Cost of development,

(d) Local support and commitment to maintenance,

(e) Water-body size,

(f) Nature of the fishery and other resources,

(g) Geographic distribution of existing tie-up facilities,

(h) How to balance the need for new tie-up facilities with the cost to maintain and improve existing facilities.

Dated: December 8, 2000.
Kenneth L. Smith,
Acting Assistant Secretary for Fish and Wildlife and Parks.

[FR Doc. 01-951 Filed 1-17-01; 8:45 am]

BILLING CODE 4310-55-P